NUCLEAR REGULATORY COMMISSION

[Docket No. 72-10]

Notice of Issuance of Amendment to Materials License SNM-2506; Nuclear Management Company, LLC; Prairie Island Independent Spent Fuel Storage Installation

The U.S. Nuclear Regulatory Commission (NRC or the Commission) has issued Amendment 5 to Materials License SNM-2506 held by the Nuclear Management Company, LLC (NMC) for the receipt, possession, transfer, and storage of spent fuel at the Prairie Island Independent Spent Fuel Storage Installation (ISFSI), located in Goodhue County, Minnesota. The amendment is effective as of the date of issuance.

By application dated August 31, 1999, as supplemented November 8, 1999; and March 13, April 6, and October 16, 2000, NMC requested to amend its ISFSI license to specifically permit the storage of burnable poison rod assemblies (BPRAs) and thimble plug devices (TPDs) within the TN-40 casks used at the Prairie Island ISFSI. This amendment complies with the standards and requirements of the Atomic Energy Act of 1954, as amended (the Act), and the Commission's rules and regulations. The Commission has made appropriate findings as required by the Act and the Commission's rules and regulations in 10 CFR Chapter I, which are set forth in the license amendment.

In accordance with 10 CFR 72.46(b)(2), a determination has been made that the amendment does not present a genuine issue as to whether public health and safety will be significantly affected. Therefore, the publication of a notice of proposed action and an opportunity for hearing or a notice of hearing is not warranted. Notice is hereby given of the right of interested persons to request a hearing on whether the action should be rescinded or modified.

Also in connection with this action, the Commission prepared an Environmental Assessment (EA) and Finding of No Significant Impact (FONSI). The EA and FONSI were published in the Federal Register on January, 29, 2001 (66 FR 8123).

In accordance with 10 CFR 2.790 of the NRC's “Rules of Practice,” a copy of the EA and FONSI are available electronically for public inspection in the NRC Public Document Room or from the Publicly Available Records (PARS) component of NRC's document system (ADAMS). ADAMS is accessible from the NRC Web site at http://www.nrc.gov/NRC/ADAMS/index.html (the Public Electronic Reading Room).

Dated at Rockville, Maryland, this 12th day of February 2001.
For the Nuclear Regulatory Commission.
E. William Brach,
Director, Spent Fuel Project Office, Office of Nuclear Material Safety and Safeguards.

[FR Doc. 01-4370 Filed 2-21-01; 8:45 am]

BILLING CODE 7590-01-P